NATIONAL LABOR RELATIONS BOARD

29 CFR Part 102

Privacy Act of 1974; System of Records

AGENCY: National Labor Relations Board.

ACTION: Direct final rule.

SUMMARY: The National Labor Relations Board (“NLRB” or “Agency”), as part of publishing a notice of a modified Privacy Act system of records for the NxGen system and the rescindment of legacy systems of records, is removing exemptions for eight of those legacy systems of records from certain provisions of the Privacy Act of 1974. This rule is being published as a direct final rule as the Agency does not expect to receive any significant adverse comments. If such comments are received, this direct final rule will be withdrawn and a proposed rule for comments will be published.

DATES: This rule is effective June 10, 2024 without further action unless significant adverse comments are received by May 9, 2024. If such comments are received, the NLRB will publish a timely withdrawal of the rule in the Federal Register.

ADDRESSES: All persons who desire to submit written comments for consideration by the Agency regarding the rule shall mail them to the Agency's Senior Agency Official for Privacy, National Labor Relations Board, 1015 Half Street SE, Third Floor, Washington, DC 20570-0001, or submit them electronically to privacy@nlrb.gov. Comments may also be submitted electronically through http://www.regulations.gov, which contains a copy of this rule and any submitted comments.

FOR FURTHER INFORMATION CONTACT: Fitz Raymond, Associate Chief Information Officer, Information Assurance, National Labor Relations Board, 1015 Half Street SE, Third Floor, Washington, DC 20570-0001, (202) 273-3733, privacy@nlrb.gov.

SUPPLEMENTARY INFORMATION:

I. Background

The Privacy Act permits Federal agencies to exempt eligible records in a system of records from certain provisions of the Act, including the provisions providing individuals with a right to request access to and amendment of their own records and accountings of disclosures of such records. If an agency intends to exempt a particular system of records, it must first go through the rulemaking process to provide public notice and an opportunity to comment on the proposed exemption.

Elsewhere in this issue of the Federal Register, the Agency has announced a modified system of records, Next Generation Case Management System (NxGen) (NLRB-33), and rescindment of systems of records. Pursuant to subsections (k) of the Privacy Act, and for the reasons set forth below, the Board is making technical changes within 29 CFR 102.119 to remove references to exemptions for seven legacy systems that are being rescinded related to NxGen:

1. Attorney Disciplinary Case Files (Nonemployees) (NLRB-20);

2. Case Activity Tracking System (CATS) and Associated Regional Office Files (NLRB-25);

3. Regional Advice and Injunction Litigation System (RAILS) and Associated Headquarters Files (NLRB-28);

4. Appeals Case Tracking System (ACTS) and Associated Headquarters Files (NLRB-30);

5. Judicial Case Management Systems-Pending Case List (JCMS-PCL) and Associated Headquarters Files (NLRB-21);

6. Solicitor's System (SOL) and Associated Headquarters Files (NLRB-23); and

7. Special Litigation Case Tracking System (SPLIT) and Associated Headquarters Files (NLRB-27).

Additionally, the Board is making technical changes within 29 CFR 102.119 to remove references to one system that is no longer operational and which the Board will rescind as a Privacy Act system of record in a forthcoming notice: Freedom of Information Act Tracking System (FTS) and Associated Agency Files (NLRB-32).

In accordance with the Paperwork Reduction Act of 1995 (44 U.S.C. 3501 et seq.), the Agency has determined that this rule would not impose new recordkeeping, application, reporting, or other types of information collection requirements on the public.

II. Direct Final Rulemaking

This rule is being published as a direct final rule as the Agency does not expect to receive any significant adverse comments. If such comments are received, this direct final rule will be withdrawn and a proposed rule for comments will be published.

For purposes of this rule, a significant adverse comment is one that explains (1) why the rule is inappropriate, including challenges to the rule's underlying premise or approach; or (2) why the direct final rule will be ineffective or unacceptable without a change. In determining whether a significant adverse comment necessitates withdrawal of this direct final rule, the Agency will consider whether the comment raises an issue serious enough to warrant a substantive response had it been submitted in a standard notice-and-comment process. A comment recommending an addition to the rule will not be considered significant and adverse unless the comment explains how this direct final rule would be ineffective without the addition.

An agency typically uses direct final rulemaking when it anticipates the rule will be non-controversial. The Agency has determined that this rule is suitable for direct final rulemaking. The rule makes technical changes to 29 CFR 102.119 to remove references to exemptions for seven legacy systems replaced by NxGen (plus a system that will be rescinded later, NLRB-32). Related to NxGen, a notice of a modified system of records and rescindment of systems of records is also published in this issue of the Federal Register. Accordingly, pursuant to 5 U.S.C. 553(b), the Agency has for good cause determined that the notice and comment requirements are unnecessary.

List of Subjects in 29 CFR Part 102

Privacy, Reporting and recordkeeping requirements.

For the reasons stated in the preamble, the NLRB amends 29 CFR part 102 as follows:

PART 102—RULES AND REGULATIONS, SERIES 8

1. The authority citation for part 102 continues to read as follows:

Authority: 29 U.S.C. 151, 156. Section 102.117 also issued under 5 U.S.C. 552(a)(4)(A), and § 102.119 also issued under 5 U.S.C. 552a(j) and (k). Sections 102.143 through 102.155 also issued under 5 U.S.C. 504(c)(1).

2. Amend § 102.119 by:

a. Removing and reserving paragraphs (k) and (l);

b. Revising paragraph (m); and

c. Revising the second sentences of paragraphs (n)(4) and (6).

The revisions read as follows:

§ 102.119 Privacy Act Regulations: Notification as to whether a system of records contains records pertaining to requesting individuals; requests for access to records, amendment of such records, or accounting of disclosures; time limits for response; appeal from denial of requests; fees for document duplication; files and records exempted from certain Privacy Act requirements.

* * * * *

(m) Pursuant to 5 U.S.C. 552a(k)(2), investigatory material compiled for law enforcement purposes that is contained in the Next Generation Case Management System (NxGen) (NLRB-33), are exempt from the provisions of 5 U.S.C. 552a(c)(3), (d), (e)(1), (e)(4)(G), (e)(4)(H), (e)(4)(I), and (f).

(n) * * *

(4) * * * Because certain information from this system of records is exempt from subsection (d) of the Act concerning access to records, and consequently, from subsection (f) of the Act concerning Agency rules governing access, these requirements are inapplicable to that information.

* * * * *

(6) * * * Because certain information from this system is exempt from subsection (d) of the Act, the requirements of subsection (f) of the Act are inapplicable to that information.

* * * * *

Dated: April 2, 2024, Washington, DC.
By direction of the Board.
Roxanne L. Rothschild,
Executive Secretary, National Labor Relations Board.

[FR Doc. 2024-07323 Filed 4-8-24; 8:45 am]

BILLING CODE 7545-01-P